DEPARTMENT OF AGRICULTURE

Animal and Plant Health Inspection Service

[Docket No. 04-105-1]

Melaleuca; Availability of an Environmental Assessment

AGENCY: Animal and Plant Health Inspection Service, USDA.

ACTION: Notice of availability and request for comments.

SUMMARY: We are advising the public that the Animal and Plant Health Inspection Service has prepared an environmental assessment relative to an application for a permit for the environmental release of the nonindigenous fly Fergusonina turneri and its obligate nematode, Fergusobia quinquenerviae, potential biological control agents for Melaleuca quinquenervia. The environmental assessment documents our review and analysis of environmental impacts associated with, and alternatives to, issuing a permit for the environmental release of the fly and nematode in the continental United States. We are making this environmental assessment available to the public for review and comment.

DATES: We will consider all comments that we receive on or before November 26, 2004.

ADDRESSES: You may submit comments by any of the following methods:

• Postal Mail/Commercial Delivery: Please send four copies of your comment (an original and three copies) to Docket No. 04-105-1, Regulatory Analysis and Development, PPD, APHIS, Station 3C71, 4700 River Road Unit 118, Riverdale, MD 20737-1238. Please state that your comment refers to Docket No. 04-105-1.

• E-mail: Address your comment to regulations@aphis.usda.gov. Your comment must be contained in the body of your message; do not send attached files. Please include your name and address in your message and “Docket No. 04-105-1” on the subject line.

• Agency Web Site: Go to http://www.aphis.usda.gov/ppd/rad/cominst.html for a form you can use to submit an e-mail comment through the APHIS Web site.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Wayne Wehling, Biological and Technical Services, Pest Permit Evaluations, PPQ, APHIS, 4700 River Road Unit 133, Riverdale, MD 20737-1236; (301) 734-8757.

SUPPLEMENTARY INFORMATION:

Background

The Australian broad-leaved paperbark tree, Melaleuca quinquenervia, commonly called melaleuca, has become a successful invasive weed in southern Florida because of its ability to produce large quantities of seed. Individual trees bear up to 100 million seeds. Massive, simultaneous seed release occurs after fire or when some other event causes drying of the seed capsules, but a steady seed rain occurs even without such an event. Densities of seedlings may be as high as 10 million seedlings/hectare (ha), and growth and development of the trees, along with simultaneous self-thinning produces mature stands of 10-15,000 trees/ha. Individual trees can grow into localized stands. These stands merge with other stands to form expansive monocultures often covering hundreds of acres. Melaleuca has invaded more than a half-million acres in southern Florida and over $25 million has been spent over the past decade to manage it, yet it continues to spread.

Melaleuca was first imported to southern Florida as an ornamental tree around 1900. Later, it was widely planted in wetlands as an inexpensive production method for the nursery trade in an attempt to produce a harvestable commodity. By the late 1970's, melaleuca became recognized as an invasive weed due to its ability to produce large quantities of seed. It was added to the Florida Prohibited Plant List in 1990, and to the Federal Noxious Weed List in 1992.

Melaleuca has been difficult to control. Herbicide treatments or controlled burns cause the release of billions of seeds and result in thickets of saplings where only a few trees existed prior to treatment. These infestations are often in sensitive habitats that are difficult to access and hazardous in which to work. Moreover, multiple followup visits are necessary to hand remove seedlings that continue to reappear from the remaining seed bank. Although melaleuca trees can be killed using traditional methods, the inability to control reinvasion or to limit continued spread remains a problem. Biological control has also been pursued as an option, with the Australian weevil Oxyops vitiosa and the melaleuca psyllid Boreioglycaspis melaleucae having been released to control melaleuca in 1997 and 2002, respectively. More recently, the nonindigenous fly Fergusonina turneri Taylor (Diptera: Fergusoninidae) and its obligate nematode, Fergusobia quinquenerviae Davies and Giblin-Davis (Tylenchida: Sphaerulariidae), have been identified as potential biological control agents of melaleuca.

The fly F. turneri and the nematode F. quinquenerviae have a mutualistic biology that causes galls on plant buds and young leaves of melaleuca. Female flies are infected with parasitic female nematodes, nematode eggs, and nematode juveniles that persist through the life of the female fly. The female fly deposits multiple eggs along with the juvenile nematodes into developing melaleuca buds. These nematodes induce the formation of galls in the bud. Fly larvae then feed on the gall tissue and complete development within the gall. The adult fly will later emerge from a “window” in the gall wall, starting the cycle all over again. This process hampers the ability of melaleuca to regenerate by decreasing seed production and reducing survival of melaleuca seedlings and saplings.

The Animal and Plant Health Inspection Service (APHIS) is considering an application for a permit for the release of F. turneri and F. quinquenerviae into the continental United States to reduce the severity and extent of melaleuca infestation. APHIS' review and analysis of the proposed action and its alternatives are documented in detail in an environmental assessment (EA) entitled, “Field Release of the Biological Control Agent Fergusonina turneri Taylor (Diptera: Fergusoninidae) and its Obligate Nematode, Fergusobia quinquenerviae Davies and Giblin-Davis (Tylenchida: Sphaerulariidae) for the Control of Melaleuca quinquenervia (Cav.) S.T. Blake (Myrtales: Myrtaceae) in the Continental United States” (September 2004). We are making this environmental assessment available to the public for review and comment. We will consider all comments that we receive on or before the date listed under the heading DATES at the beginning of this notice.

The EA may be viewed on the Internet at http://www.aphis.usda.gov/ppq/. In the middle of that page, click on “Document/Forms Retrieval System.” At the next screen, click on the triangle beside “Permits—Environmental Assessments.” A list of documents will appear; the EA for melaleuca is document number 0039. You may request paper copies of the EA by calling or writing to the person listed under FOR FURTHER INFORMATION CONTACT. Please refer to the title of the EA when requesting copies. The EA is also available for review in our reading room (information on the location and hours of the reading room is listed under the heading ADDRESSES at the beginning of this notice).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 21st day of October 2004.
Elizabeth E. Gaston,
Acting Administrator, Animal and Plant Health Inspection Service.

[FR Doc. E4-2856 Filed 10-25-04; 8:45 am]

BILLING CODE 3410-34-P